DEPARTMENT OF ENERGY

Federal Energy Regulatory Commission

Sunshine Act Meeting

May 10, 2000.

The following notice of meeting is published pursuant to section 3(a) of the Government in the Sunshine Act (Pub. L. No. 94-409), 5 U.S.C 552B:

AGENCY HOLDING MEETING: Federal Energy Regulatory Commission.

DATE AND TIME: May 17, 2000, 10:00 a.m.

PLACE: Room 2C, 888 First Street, NW, Washington, DC 20426.

STATUS: Open.

MATTERS TO BE CONSIDERED: Agenda.

Note: Items listed on the agenda may be deleted without further notice.

CONTACT PERSON FOR MORE INFORMATION: David P. Boergers, Secretary, telephone (202) 208-0400, for a recording listing items, stricken from or added to the, meeting, call (202) 208-1627.

This is a list of matters to be considered by the Commission. It does not include a listing of all papers relevant to the items on the agenda; however, all public documents may be examined in the Reference and Information Center.

Consent Agenda—Hydro 741st—Meeting May 17, 2000, Regular Meeting (10:00 a.m.)

CAH-1.

Docket# P-4632,026, Clifton Power Corporation

CAH-2.

Docket# P-10615,016, Tower Kleber Limited Partnership

CAH-3.

Docket# P-9100,011, James M. Knott

CAH-4.

Docket# P-2426,148, California Department of Water Resources and City of Los Angeles Department of Water and Power

Consent Agenda—Electric

CAE-1.

Docket# ER00-1743, 000, Entergy Services, Inc.

CAE-2.

Docket# ER99-4226,000, Ameren Operating Companies

Others# ER99-4226,001, Ameren Operating Companies

EL00-16,000, Ameren Operating Companies

CAE-3.

Docket# ER00-1933,000, Entergy Services, Inc.

CAE-4.

Docket# ER00-1947,000, Entergy Services, Inc.

CAE-5.

Docket# ER00-1969,000, New York Independent System Operator, Inc.

Other EL00-57, 000, Niagara Mohawk Power Corporation v. New York Independent System Operator, Inc.

EL00-60,000, Orion Power New York GP, Inc. v. New York Independent System Operator, Inc.

EL00-63,000, New York State Electric & Gas Corporation v. New York Independent System Operator, Inc.

EL00-64,000, Rochester Gas and Electric Corporation v. New York Independent System Operator, Inc.

CAE-6.

Docket# ER00-1849,000, PJM Interconnection L.L.C.

CAE-7.

Docket# ER00-2064,000, Illinois Power Company

CAE-8.

Docket# ER00-2074,000, Elkem Metals Company

Other ER00-2093,000, Elkem Metals Company-Alloy LP

CAE-9.

Docket# ER00-1816,000, DTE River Rouge No. 1, LLC

Other#s EL00-61,000, Nordic Electric, L.L.C. v. the Detroit Edison Company, DTE Energy Company, DTE River Rouge No. 1, LLC and DTE Energy Trading, Inc.

ER00-1816, 001, DTE River Rouge No. 1, LLC

CAE-10.

Docket# EF00-2011,000, United States Department of Energy—Bonneville Power Administration

CAE-11.

Docket# ER00-1920,000, Sun River Electric Cooperative, Inc.

Other#s EL00-55,000, Sun River Electric Cooperative, Inc.

CAE-12.

Docket# OA97-25,000, Northern States Power Company (Minnesota) and Northern States Power Company (Wisconsin)

Other#s OA97-25,005, Northern States Power Company (Minnesota) and Northern States Power Company (Wisconsin)

OA97-606,000, Northern States Power Company (Minnesota) and Northern States Power Company (Wisconsin)

OA97-606,005 Northern States Power Company (Minnesota) and Northern States Power Company (Wisconsin)

EL98-40,000, Northern States Power Company (Minnesota) and Northern States Power Company (Wisconsin)

EL98-40,005, Northern States Power Company (Minnesota) and Northern States Power Company (Wisconsin)

ER98-1890,000, Northern States Power Company (Minnesota) and Northern States Power Company (Wisconsin)

ER98-1890,006 Northern States Power Company (Minnesota) and Northern States Power Company (Wisconsin)

ER98-2060,000, Northern States Power Company (Minnesota) and Northern States Power Company (Wisconsin)

ER98-2060,006, Northern States Power Company (Minnesota) and Northern States Power Company (Wisconsin)

CAE-13.

Docket# EC99-81,001, Dominion Resources, Inc. and Consolidated Natural Gas Company

CAE-14.

Docket# ER00-771,001, Tucson Electric Power Company

Other#s ER00-771,002, Tucson Electric Power Company

ER00-771,003, Tucson Electric Power Company

CAE-15.

Docket# ER98-2382,000, Montana Power Company

Other#s OA96-199,006, Montana Power Company

OA97-679,002, Montana Power Company

ER98-2382,002, Montana Power Company

CAE-16.

Docket# ER97-1523,025, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

Other#s OA97-470,023, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

ER97-4234,021, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

CAE-17.

Docket# ER97-1523,030, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

Other#s OA97-470,028, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

OA97-470, 030, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

ER97-1523,032, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

ER97-4234,026, Central Hudson & Electric Corporation, Consolidated Edison Company of New York, Inc., Long Island Lighting Company, New York State Electric and Gas Corporation, Niagara Mohawk Power Corporation, Orange and Rockland Utilities, Inc., Rochester Gas and Electric Corporation and New York Power Pool

ER97-4234,028, Central Hudson Gas & Electric Corporation, Consolidated Edison Company of New York, Inc., Long Island Lighting Company, New York State Electric and Gas Corporation, Niagara Mohawk Power Corporation, Orange and Rockland Utilities, Inc., Rochester Gas and Electric Corporation and New York Power Pool

CAE-18.

Docket# EC00-60,000, Northern States Power Company (Minnesota) and Northern States Power Company (Wisconsin)

CAE-19.

Docket# EL98-77,001, Edison Sault Electric Company

Other#s EL98-77,002, Edison Sault Electric Company

ER00-1966,000, Edison Sault Electric Company

ER00-1966,001, Edison Sault Electric Company

CAE-20.

Docket# ER95-112,009, Entergy Services, Inc.

Other#s EL95-17,005, Entergy Services, Inc. and Entergy Power, Inc.

ER95-1001,002, Entergy Services, Inc.

ER95-1615,014, Entergy Power Marketing Corporation

ER96-586,004, Entergy Services, Inc.

ER96-2709,002, Entergy Services, Inc.

CAE-21.

Omitted

CAE-22.

Docket# ER99-3144,001, Alliance Companies

Other#s EC99-80,001, American Electric Power Service Corporation, Consumers Energy Company, Detroit Edison Company, First Energy Corporation and Virginia Electric and Power Company

EC99-80,002, American Electric Power Service Corporation, Consumers Energy Company, Detroit Edison Company, First Energy Corporation and Virginia Electric and Power Company

ER99-3144,002, Alliance Companies

CAE-23.

Docket# ER00-936,001, Southern Energy Delta, L.L.C.

Other#s ER00-937,001, Southern Energy Potrero, L.L.C.

CAE-24.

Docket# EL00-25,002, Commonwealth Edison Company, Commonwealth Edison Company of Indiana, Inc., IES Utilities, Inc., Interstate Power Company and MidAmerican Energy Company

CAE-25.

Docket# EC98-40,005, American Electric Power Company and Central and Southwest Corporation

Other#s ER98-2770,005, American Electric Power Company and Central and Southwest Corporation

ER98-2786, 006, American Electric Power Company and Central and Southwest Corporation

CAE-26.

Docket# OA97-163,009, Mid-Continent Area Power Pool

Other#s OA97-658,009, Mid-Continent Area Power Pool

ER97-1162,008, Mid-Continent Area Power Pool

CAE-27.

Docket# ER97-1523,041, New York Independent System Operator, Inc., Central Hudson Gas & Electric Corporation, Consolidated Edison Company of New York, Inc., New York State Electric and Gas Corporation, Niagara Mohawk Power Corporation, Orange and Rockland Utilities, Inc., Rochester Gas and Electric Corporation and New York Power Pool

Other#s OA97-470,039, New York Independent System Operator, Inc., Central Hudson Gas & Electric Corporation, Consolidated Edison Company of New York, Inc., New York State Electric and Gas Corporation, Niagara Mohawk Power Corporation, Orange and Rockland Utilities, Inc., Rochester Gas and Electric Corporation and New York Power Pool

ER97-4234,037, New York Independent System Operator, Inc., Central Hudson Gas & Electric Corporation, Consolidated Edison Company of New York, Inc., New York State Electric and Gas Corporation, Niagara Mohawk Power Corporation, Orange and Rockland Utilities, Inc., Rochester Gas and Electric Corporation and New York Power Pool

CAE-28.

Docket # RM95-9,011, Open Access Same-Time Information System and Standards of Conduct

CAE-29.

Docket # EL00-48,000, Black River Limited Partnership

CAE-30.

Docket # EL00-39,000, Southwest Power Pool, Inc.

CAE-31.

Docket # EL00-40,000, Dighton Power Associates Limited Partnership, FPL Energy, L.L.C., Southern Energy New England, L.L.C. and Southern Energy Kendall, L.L.C.

CAE-32.

Docket # EL99-24,000, Central Montana Electric Power Cooperative, Inc. V. Montana Power Company

CAE-33.

Docket # EL98-65,000, Allegheny Electric Cooperative, Inc. v. Pennsylvania Electric Company

Consent Agenda—Miscellaneous

CAM-1.

Docket # RM00-8,000, Revision of Public Reference Room Procedures for Records Requests

Consent Agenda—Gas and Oil

CAG-1.

Docket # RP00-252,000, Florida Gas Transmission Company

CAG-2.

Docket # PR00-7,000, Duke Energy Texas Intrastate Pipeline, LLC

CAG-3.

Docket # RP00-164,001, Northern Natural Gas Company

CAG-4.

Docket # OR99-5,000, Colonial Pipeline Company

CAG-5.

Docket # OR99-6,000, TE Products Pipeline Company, L.P.

CAG-6.

Docket # PR00-9,001, PG&E Texas Pipeline, L.P.

CAG-7.

Docket # RP00-162,001, Panhandle Eastern Pipe Line Company

Other #s RP00-162,002, Panhandle Eastern Pipe Line Company

CAG-8.

Docket # PR99-19,001, Oneok Gas Storage, L.L.C. and Oneok Sayre Storage Company

CAG-9.

Docket # OR92-8,009, SFPP, L.P.

Other #s OR92-8,000, SFPP, L.P.

OR93-5, 000, SFPP, L.P.

OR93-5, 006, SFPP, L.P.

OR94-3, 000, SFPP, L.P.

OR94-4, 000, SFPP, L.P.

OR94-4, 006, SFPP, L.P.

OR95-5, 000, Mobil Oil Corporation V. SFPP, L.P.

OR95-5,004, Mobil Oil Corporation V. SFPP, L.P.

OR95-34,000, Tosco Corporation V. SFPP, L.P.

IS99-144,000, SFPP, L.P.

IS99-144,001, SFPP, L.P.

CAG-10.

Docket # OR96-2, 000, Arco Products Company, a Division of Atlantic Richfield Company, Texaco Refining and Marketing, Inc. and Mobil Oil Corporation V. SFPP, L.P.

Other #s OR96-2,001, Arco Products Company, a Division of Atlantic Richfield Company, Texaco Refining and Marketing, Inc. and Mobil Oil Corporation V. SFPP, L.P.

OR96-2,002, Arco Products Company, a Division of Atlantic Richfield Company, Texaco Refining and Marketing, Inc. and Mobil Oil Corporation V. SFPP, L.P.

OR96-10,000, Arco Products Company, a Division of Atlantic Richfield Company, Texaco Refining and Marketing, Inc. and Mobil Oil Corporation V. SFPP, L.P.

OR98-1,000, Arco Products Company, a Division of Atlantic Richfield Company, Texaco Refining and Marketing, Inc. and Mobil Oil Corporation V. SFPP, L.P.

OR98-1,001, Arco Products Company, a Division of Atlantic Richfield Company, Texaco Refining and Marketing, Inc. and Mobil Oil Corporation V. SFPP, L.P.

OR98-1,002, Arco Products Company, a Division of Atlantic Richfield Company, Texaco Refining and Marketing, Inc. and Mobil Oil Corporation V. SFPP, L.P.

OR00-4,000, Arco Products Company, a Division of Atlantic Richfield Company, Texaco Refining and Marketing, Inc. and Mobil Oil Corporation V. SFPP, L.P.

OR96-2,002, Ultramar Inc. V. SFPP, L.P.

OR96-15,000, Ultramar Inc. V. SFPP, L.P.

OR96-15,001, Ultramar Inc. V. SFPP, L.P.

OR96-15,002, Ultramar Inc. V. SFPP, L.P.

OR96-17,000, Ultramar Inc. V. SFPP, L.P.

OR97-2,000, Ultramar Inc. V. SFPP, L.P.

OR98-2,000, Ultramar Inc. V. SFPP, L.P.

OR98-1,001, Tosco Corporation v. SFPP Inc.

OR98-1,002, Tosco Corporation v. SFPP Inc.

OR98-13,000, Tosco Corporation v. SFPP Inc.

OR98-13,001, Tosco Corporation v. SFPP Inc.

CAG-11.

Docket# MG00-2, 000, Transwestern Pipeline Company

Other#s MG00-2,001, Transwestern Pipeline Company

CAG-12.

Docket# MG99-25,000, Kinder Morgan Interstate Gas Transmission L.L.C. (Formerly K N Interstate Gas Transmission Company)

Other#s MG98-6,002, Natural Gas Pipeline Company of America

MG98-6,003, Natural Gas Pipeline Company of America

MG99-24,000, KN Wattenberg Transmission, L.L.C.

CAG-13.

Omitted

CAG-14.

Docket# CP99-392,000, Transcontinental Gas Pipe Line Corporation

Other#s CP00-17,000, South Carolina Public Service Authority

CP00-19, 000, South Carolina Public Service Authority

CAG-15.

Docket# CP87-203,008, CNG Transmission Corporation

Other#s CP99-106,001, NE HUB Partners, L.P. V. CNG Transmission Corporation

CAG-16.

Docket# MG00-6,000, Consolidated Natural Gas Company

CAG-17.

Docket# PR00-9,000, PG&E Texas Pipeline, L.P.

CAG-18.

Docket# PR00-8,000, PG&E Texas Pipeline, L.P.

CAG-19.

Docket# RP00-250,000, Kinder Morgan Interstate Gas Transmission LLC

Hydro Agenda

H-1.

Reserved

Electric Agenda

E-1.

Reserved

Oil and Gas Agenda

I. Pipeline Rate Matters

PR-1.

Docket# RM98-10,001, Regulation of Short-Term Natural Gas Transportation Services

Other's RM98-10,004, Regulation of Short-Term Natural Gas Transportation Services

RM98-12,001, Regulation of Interstate Natural Gas Transportation Services

RM98-12,004, Regulation of Interstate Natural Gas Transportation Services

Order No. 637-A, Order on Rehearing.

II. Pipeline Certificate Matters

PC-1.

Reserved

David P. Boergers,
Secretary.

[FR Doc. 00-12243 Filed 5-11-00; 8:45 am]

BILLING CODE 6717-01-P